FEDERAL DEPOSIT INSURANCE CORPORATION

[OMB No. 3064-0072; -0093; -0111; -0136 and -0171]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0072; -0093; -0111; -0136; and -0171). The notices of proposed renewal for these information collections were previously published in the Federal Register on January 23, 2025, allowing for a 60-day comment period.

DATES: Comments must be submitted on or before April 24, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these particular information collections by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Acquisition Services Information Requirements.

OMB Number: 3064-0072.

Form Number: 1600/04; 1600/07; 3700/04A; 3700/12; 3700/44; 3700/57.

Affected Public: Private sector, business and other for-profit entities.

Burden Estimate:

Summary of Estimated Annual Burden (OMB No. 3064-0072)
Information collection (IC) (obligation to respond) | Type of burden (frequency of response) | Number of respondents | Number of responses per respondent | Time per response (HH:MM) | Annual burden (hours)
1. Request for Proposal and Request for Quotation—Solicitation/Award (Form 3700/55) (Required to Obtain or Retain Benefits) | Reporting (On Occasion) | 634 | 1 | 10:36 | 6,720
2. Request for Information (Voluntary) | Reporting (On Occasion) | 104 | 1 | 55:24 | 5,762
3. Background Investigation Questionnaire for Contractor Personnel and Subcontractors (Form 1600/04), 12 CFR Part 366 (Required to Obtain or Retain Benefits) | Reporting (On Occasion) | 581 | 1 | 00:20 | 194
4. Background Investigation Questionnaire for Contractors (Form 1600/07), 12 CFR Part 366 (Required to Obtain or Retain Benefits) | Reporting (On Occasion) | 223 | 1 | 00:30 | 112
5. Leasing Representations and Certifications (Form 3700/44), 12 CFR Part 366 (Required to Obtain or Retain Benefits) | Reporting (On Occasion) | 40 | 1 | 01:00 | 40
6. Past Performance Questionnaire (Form 3700/57) (Required to Obtain or Retain Benefits) | Reporting (On Occasion) | 474 | 1 | 00:45 | 356
7. Contractor Representations and Certifications (Form 3700/04A) (Required to Obtain or Retain Benefits) | Reporting (On Occasion) | 1 | 1 | 00:45 | 1
8. Integrity and Fitness Representations and Certifications (Form 3700/12) (Required to Obtain or Retain Benefits) | Reporting (On Occasion) | 1 | 1 | 00:20 | 0
9. Prize Competitions—Application (Required to Obtain or Retain Benefits) | Reporting (On Occasion) | 1 | 1 | 01:00 | 1
10. Prize Competitions—Proposal (Required to Obtain or Retain Benefits) | Reporting (On Occasion) | 1 | 1 | 60:00 | 60
11. Innovation Pilot Programs—Application (Required to Obtain or Retain Benefits) | Reporting (On Occasion) | 1 | 1 | 20:00 | 20
12. Innovation Pilot Programs—Proposal (Required to Obtain or Retain Benefits) | Reporting (On Occasion) | 1 | 1 | 60:00 | 60
Total Annual Burden (Hours) |  |  |  |  | 13,326
Source: FDIC.

General Description of Collection: This information collection involves the submission of various forms by (1) contractors who wish to do business with the FDIC or are currently under contract with the FDIC, (2) those vendors and parties participating in innovation pilot programs and prize competitions with the possibility of being awarded a contract, and (3) government agencies or commercial businesses that provide FDIC with past performance information. The Federal Deposit Insurance Act (12 U.S.C. 1819) empowers the FDIC to enter into contracts using private sector contractors to provide goods or services. Many of these contracts are in service to mission essential functions, including resolutions. The Act also provides that the FDIC may promulgate policies and procedures to administer the powers granted to it, including the power to enter into contracts. Pursuant to such policies, the Acquisition and Corporate Services Branch of the FDIC's Division of Administration has developed forms and clauses to facilitate the procurement of goods and services from private sector contractors. The information collected through these forms and clauses fall under the definition of collection of information under the Paperwork Reduction Act of 1995 (PRA). There is no change in the methodology or substance of this information collection. The decrease in total estimated annual burden from 21,234 hours in 2022 to 13,326 hours currently is due to the deletion of the former IC associated with Form 1600/10.

2. Title: Notices Required of Government Securities Dealers or Brokers (Insured State Nonmember Banks).

OMB Number: 3064-0093.

Form Number: G-FIN; G-FINW; G-FIN-4; G-FIN-5.

Affected Public: Insured State nonmember banks acting as government securities brokers and dealers.

Burden Estimate:

Summary of Estimated Annual Burden (OMB No. 3064-0093)
Information collection (IC) (obligation to respond) | Type of burden (frequency of response) | Number of respondents | Number of responses per respondent | Average time per response (HH:MM) | Annual burden (hours)
1. Notice by Financial Institutions of Government Securities Broker or Government Securities Dealer Activities (G-FIN),17 CFR Part 401 (Mandatory) | Reporting (On Occasion) | 2 | 1 | 01:00 | 2
2. Notice by Financial Institutions of Termination of Activities as a Government Securities Broker or Government Securities Dealer (G-FINW),17 CFR Part 401 (Mandatory) | Reporting (On Occasion) | 2 | 1 | 02:00 | 4
3. Disclosure Form for Person Associated with a Financial Institution Securities Broker or Dealer (G-FIN-4),17 CFR Part 401 (Mandatory) | Reporting (On Occasion) | 2 | 1 | 02:00 | 4
4. Uniform Termination Notice for Persons Associated with a Financial Institution Government Securities Broker or Dealer (G-FIN-5),17 CFR Part 401 (Mandatory) | Reporting (On Occasion) | 2 | 2 | 00:15 | 1
Total Annual Burden (Hours) |  |  |  |  | 11
Source: FDIC.

General Description of Collection: The Government Securities Act of 1986 requires all financial institutions acting as government securities brokers and dealers to notify their Federal regulatory agencies of their broker dealer activities, unless exempted from the notice requirements by Treasury Department regulation. The Form G-FIN and Form G-FINW are used by insured State nonmember banks that are government securities brokers or dealers to notify the FDIC of their status or that they have ceased to function as a government securities broker or dealer. The Form G-FIN-4 is used by associated persons of insured State nonmember banks that are government securities brokers or dealers to provide certain information to the bank and to the FDIC concerning employment, residence, and statutory disqualification. The Form G-FIN-5 is used by insured State nonmember banks that are government securities brokers or dealers to notify the FDIC that an associated person is no longer associated with the government securities broker or dealer function of the bank. There is no change in the method or substance of the collection. The overall decrease in burden hours is driven both by the decrease in the estimated annual number of responses and the changes to the estimated time per response.

3. Title: Activities and Investments of Insured Depository Institutions.

OMB Number: 3064-0111.

Form Number: None.

Affected Public: Insured State nonmember banks and insured State savings associations.

Burden Estimate:

Summary of Estimated Annual Burden (OMB No. 3064-0111)
Information collection (IC) (obligation to respond) | Type of burden (frequency of response) | Number of respondents | Number of responses per respondent | Time per response (HH:MM) | Annual burden (hours)
1. Application or Notice to engage in certain activities—12 CFR Part 362. (Mandatory) | Recordkeeping (Annual) | 32 | 1.1 | 08:00 | 280
Total Annual Burden (Hours) |  |  |  |  | 280
Source: FDIC.

General Description of Collection: Section 24 of the Federal Deposit Insurance (FDI Act), 12 U.S.C. 1831a, limits investments and other activities in which State banks may engage, as principal, to those permissible for national banks and those approved by the FDIC under procedures set forth in 12 CFR part 362 of the FDIC's Rules and Regulations. With certain exceptions, section 24 of the FDI Act limits the activities and investments of State banks to those activities and investments that are permissible for national banks. In addition, the statute prohibits a State bank from directly engaging, as a principal, in any activity or investment that is not permissible for a national bank, or indirectly through a subsidiary in an activity or investment that is not permissible for a subsidiary of a national bank, unless such bank meets its minimum capital requirements and the FDIC determines that the activity or investment does not pose a significant risk to the Deposit Insurance Fund (DIF). The FDIC can make such a determination for exception by regulation or by order. Section 28(a), 12 U.S.C. 1831e, similarly limits the investments and activities of State savings associations and their service corporations to those permitted by Federal savings associations and their service corporations, absent FDIC approval. Part 362 details the activities that State banks or their subsidiaries may engage in, under certain criteria and conditions and identifies the information that State banks must furnish to the FDIC in order to obtain the FDIC's approval or non-objection. Part 362 also applies to the activities and investments of State savings associations and their subsidiaries. There is no change in the method or substance of the collection. The increase in burden hours from 232 hours in 2022 to 280 hours currently is the result of increasing the number of respondents and the number of responses per respondent to account for economic fluctuation.

4. Title: Privacy of Consumer Financial Information.

OMB Number: 3064-0136.

Form Number: None.

Affected Public: Insured State nonmember banks and consumers.

Burden Estimate:

Summary of Estimated Annual Burden (OMB No. 3064-0136)
Information collection (IC) (obligation to respond) | Type of burden (frequency of response) | Number of respondents | Number of responses per respondent | Time per response (HH:MM) | Annual burden (hours)
IC1: Initial drafting of Notice to Consumers (12 CFR 1016.4) (Mandatory) | Disclosure (Annual) | 83 | 1 | 240:00 | 19,920
IC2: Annual notice and change in terms (12 CFR 1016.5) (Mandatory) | Disclosure (Annual) | 349 | 1 | 60:00 | 20,940
IC3: Opt-out Notice (12 CFR 1016.7) (Mandatory) | Disclosure (Annual) | 182 | 1 | 8:00 | 1,456
IC4: Consumer opt-out (12 CFR 1016.10) (Mandatory) | Recordkeeping (Annual) | 182 | 1 | 1:00 | 182
Total Annual Burden (Hours) |  |  |  |  | 42,498
Source: FDIC.

General Description of Collection: The elements of this collection are required under sections 503 and 504 of the Gramm-Leach-Bliley Act, 15 U.S.C. 6803, 6804. The collection mandates notice requirements and restrictions on a financial institution's ability to disclose nonpublic personal information about consumers to nonaffiliated third parties. There is no change in the method or substance of the collection. The overall decrease in burden hours is the result of economic fluctuation. In particular, the determination that regulation P has de minimis burden on consumers to opt out.

5. Title: Registration of Mortgage Loan Originators.

OMB Number: 3064-0171.

Form Number: None.

Affected Public: FDIC-supervised institutions and employee mortgage loan originators.

Burden Estimate:

Summary of Estimated Annual Burden (OMB No. 3064-0171)
Information collection (IC) (obligation to respond) | Type of burden (frequency of response) | Number of respondents | Number of responses per respondent | Average time per response (HH:MM) | Annual burden (hours)
1. Financial Institution Policies and Procedures for Ensuring Employee-Mortgage Loan Originator Compliance with SAFE Act Requirements—New Entrant, 12 CFR 1007.104 (Mandatory) | Recordkeeping (One Time) | 2 | 1 | 20:00 | 40
2. Financial Institution Policies and Procedures for Ensuring Employee-Mortgage Loan Originator Compliance with SAFE Act Requirements—Ongoing, 12 CFR 1007.104 (Mandatory) | Recordkeeping (Annual) | 2,783 | 1 | 01:00 | 2,783
3. Financial Institution Procedures to Track and Monitor Compliance with SAFE Act Compliance—New Entrant, 12 CFR 1007.104 (Mandatory) | Recordkeeping (One Time) | 2 | 1 | 60:00 | 120
4. Financial Institution Procedures to Track and Monitor Compliance with SAFE Act Compliance—Ongoing, 12 CFR 1007.104 (Mandatory) | Recordkeeping (Annual) | 2,783 | 1 | 01:00 | 2,783
5. Financial Institution Procedures for the Collection and Maintenance of Employee Mortgage Loan Originator's Criminal History Background Reports—New Entrant, 12 CFR 1007.104 (Mandatory) | Recordkeeping (One Time) | 2 | 1 | 20:00 | 40
6. Financial Institution Procedures for the Collection and Maintenance of Employee Mortgage Loan Originator's Criminal History Background Reports—Ongoing, 12 CFR 1007.104 (Mandatory) | Recordkeeping (Annual) | 2,783 | 1 | 01:00 | 2,783
7. Financial Institution Procedures for Public Disclosure of Mortgage Loan Originator's Unique Identifier—New Entrant, 12 CFR 1007.104 (Mandatory) | Disclosure (One Time) | 2 | 1 | 25:00 | 50
8. Financial Institution Procedures for Public Disclosure of Mortgage Loan Originator's Unique Identifier—Ongoing, 12 CFR 1007.104 (Mandatory) | Disclosure (Annual) | 2,783 | 1 | 01:00 | 2,783
9. Financial Institution Information Reporting to Registry, 12 CFR 1007.103 (Mandatory) | Reporting (On Occasion) | 2,785 | 1 | 01:00 | 2,785
10. Mortgage Loan Originator Initial Registration Reporting and Authorization Requirement, 12 CFR 1007.103 (Mandatory) | Reporting (One Time) | 6,204 | 1 | 00:15 | 1,551
11. Mortgage Loan Originator Registration Updates Upon Change in Circumstances, 12 CFR 1007.103 (Mandatory) | Reporting (On Occasion) | 38,249 | 1 | 00:15 | 9,562
12. Financial Institution Procedures for the Collection of Employee Mortgage Loan Originator's Fingerprints, 12 CFR 1007.104 (Mandatory) | Recordkeeping (On Occasion) | 2,785 | 1 | 04:00 | 11,140
13. Mortgage Loan Originator Procedures for Disclosure to Consumers of Unique Identifier, 12 CFR 1007.104 (Mandatory) | Disclosure (On Occasion) | 44,453 | 1 | 01:00 | 44,453
14. Mortgage Loan Originator Annual Renewal Registration Reporting and Authorization Requirements, 12 CFR 1007.103 (Mandatory) | Reporting (On Occasion) | 38,249 | 1 | 00:15 | 9,562
Total Annual Burden (Hours) |  |  |  |  | 90,435
Source: FDIC.

General Description of Collection: This information collection implements the Secure and Fair Enforcement for Mortgage Licensing Act of 2008 (SAFE Act) requirement that employees of federally-regulated institutions who engage in the business of a mortgage loan originator to register with the Nationwide Mortgage Licensing System and Registry and establishes national licensing and registration requirements. It also directs federally-regulated institutions to have written policies and procedures in place to ensure that their employees who perform mortgage loan originations comply with the registration and other SAFE Act requirements. There is no change in the method or substance of the collection. The overall decrease in burden hours is the result of decreases in both the estimated number of FDIC-supervised institutions engaged in mortgage lending as well as the estimated number of mortgage loan originators employed at such institutions.

Request for Comment

Comments are invited on (a) whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 19, 2025.
Jennifer M. Jones,
Deputy Executive Secretary.

[FR Doc. 2025-04975 Filed 3-24-25; 8:45 am]

BILLING CODE 6714-01-P